FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

S.F. Systems Inc., 12335 Denholm Drive, #C, El Monte, CA 91732, Officers: Mei-Ling Chan, Vice President (Qualifying Individual), David Sun, President.

Gunter Shipping, 1072 E. 39th Street, Brooklyn, NY 11210, Joseph A. Gunter, Sole Proprietor.

Comis Int'l Inc., 690 Knox Street, #220, Torrance, CA 90502, Officers: Frank S. Noah, President (Qualifying Individual), M.H. Ahn, Treasury.

Carga Tica Int'l, Inc., 4408 N.W. 74th Avenue, Miami, FL 33166, Officers: Dannia Roa, Vice President (Qualifying Individual), Patricia Ann Fonseca, President.

Non-Vessel Operating Common Carrier and Ocean Freight Forwarder Transportation Intermediary Applicant

MC Logix, Inc., 1535 W. 139th Street, Gardena, CA 90249, Officer: Se Hwan Park, President (Qualifying Individual).

RCP Logistics, Inc., 300 Elmwood Avenue, Sharon Hill, PA 19079, Officer: Richard C. Powley, President (Qualifying Individual).

Ocean Freight Forwarder—Ocean Transportation Intermediary Applicants

W. P. Mulry & Co., Inc., 348 Jervis Avenue, Copiaque, NY 11726, Officer: William P. Mulry, President (Qualifying Individual).

International Trade Brokers and Forwarders Co., 7252 NW 25th Street, Miami, FL 33122, Officers: Alvaro G. Munoz, President (Qualifying Individual), Isabel Munoz, Vice President.

Amtrade International, Inc., 1700 N. Dixie Hwy., Suite 142, Boca Raton, FL 33432, Officer: Ana Adriazola-Rodriguez, President (Qualifying Individual).

Arimar International SPA, Via VIII Marzo, 35/c, 50010 Scandicci (FI) Italy, Officers: Jennifer M. Carter, Director (Qualifying Individual).

Dated: February 7, 2003.
Bryant L. VanBrakle,
Secretary.

[FR Doc. 03-3500 Filed 2-11-03; 8:45 am]

BILLING CODE 6730-01-P